DEPARTMENT OF STATE

[Public Notice: 11323]

U.S. Advisory Commission on Public Diplomacy Notice of Meeting

The U.S. Advisory Commission on Public Diplomacy (ACPD) will hold a virtual public meeting from 12:00 p.m. until 1:30 p.m., Thursday, February 11, 2021. The meeting will showcase the Commission's 2020 Comprehensive Annual Report on Public Diplomacy and International Broadcasting, and a panel of independent experts will examine the challenges and opportunities facing U.S. government public diplomacy in 2021 and beyond. The ongoing COVID-19 pandemic and the continuously evolving information and political environments at home and abroad are profoundly affecting public diplomacy policies and practices in the new decade.

This meeting is open to the public, including the media and members and staff of governmental and non-governmental organizations. To obtain the web conference link and password and to request reasonable accommodation, please email ACPD Program Assistant Kristy Zamary at ZamaryKK@state.gov. Please send any request for reasonable accommodation no later than February 4, 2021. Requests received after that date will be considered, but might not be possible to fulfill. Attendees should plan to enter the web conference waiting room by 11:50 a.m. to allow for a prompt start. Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress. The Office of the Under Secretary of State for Public Diplomacy and Public Affairs supports it.

For more information on the U.S. Advisory Commission on Public Diplomacy, please contact Executive Director Vivian S. Walker at WalkerVS@state.gov or Senior Advisor Shawn Baxter at BaxterGS@state.gov, or please visit https://www.state.gov/bureaus-offices/under-secretary-for-public-diplomacy-and-public-affairs/united-states-advisory-commission-on-public-diplomacy/.

Kristina K. Zamary,
Department of State.

[FR Doc. 2021-01073 Filed 1-15-21; 8:45 am]

BILLING CODE 4710-45-P